DEPARTMENT OF COMMERCE

National Oceanic and Atmospheric Administration

RIN 0648-XG962

South Atlantic Fishery Management Council; Public Meetings

AGENCY: National Marine Fisheries Service (NMFS), National Oceanic and Atmospheric Administration (NOAA), Commerce.

ACTION: Notice for public scoping meetings.

SUMMARY: The South Atlantic Fishery Management Council (Council) will hold two scoping meetings to get input on options being considered for adding bullet mackerel and frigate mackerel as ecosystem component species to the Dolphin Wahoo Fishery Management Plan (FMP) for the Atlantic Region. Written comments will also be accepted.

DATES: The scoping meetings will be held May 7 and May 9, 2019, beginning at 6 p.m.

ADDRESSES: Council address: South Atlantic Fishery Management Council, 4055 Faber Place Drive, Suite 201, N. Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The Council is considering adding bullet mackerel and frigate mackerel to the Dolphin Wahoo FMP as ecosystem component species. This action is being considered in acknowledgement of the role the two unmanaged mackerel species play as important forage for both dolphin and wahoo. The Council is soliciting public input on the proposed option through public scoping before deciding if it will move forward with any action.

Council staff will provide a presentation followed by a question and answer session and give participants an opportunity to provide formal comments during each scoping meeting webinar. Registration for each webinar is required. Registration information for the webinars, along with the public scoping document, presentation, online public comment form, and additional information will be available from the Council's website at: http://safmc.net/safmc-meetings/public-hearings-scoping-meetings/ as it becomes available.

The Council requests that written comments be submitted using the online public comment form available from the Council's website at: http://safmc.net/safmc-meetings/public-hearings-scoping-meetings/. All comments submitted using the online form will be automatically posted to the website and accessible for Council members and the public to view. Written comments may also be submitted by mail or FAX. All written comments are due by 5 p.m. on May 16, 2019.

Comments may be submitted by mail to: Gregg Waugh, Executive Director, SAFMC, 4055 Faber Place Drive, Suite 201, North Charleston, SC 29405. Fax comments to (843) 769-4520.

Special Accommodations

These meetings are physically accessible to people with disabilities. Requests for auxiliary aids should be directed to the Council office (see ADDRESSES) 3 days prior to the meeting.

Note: The times and sequence specified in this agenda are subject to change.

Authority: 16 U.S.C. 1801 et seq.

Dated: April 10, 2019.
Rey Israel Marquez,
Acting Deputy Director, Office of Sustainable Fisheries, National Marine Fisheries Service.

[FR Doc. 2019-07447 Filed 4-12-19; 8:45 am]

BILLING CODE 3510-22-P